DEPARTMENT OF COMMERCE

National Oceanic and Atmospheric Administration

Agency Information Collection Activities; Submission to the Office of Management and Budget (OMB) for Review and Approval; Comment Request; Greater Atlantic Region Logbook Family of Forms

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on February 16, 2022, during a 60-day comment period. This notice allows for an additional 30 days for public comments.

Agency: National Oceanic & Atmospheric Administration (NOAA), Commerce.

Title: Greater Atlantic Region Logbook Family of Forms.

OMB Control Number: 0648-0212.

Form Number(s): 80-30, 80-140.

Type of Request: Regular (extension of a currently approved collection).

Number of Respondents: 2,036.

Average Hours per Response: Fishing Vessel Trip reports, 5 minutes; Shellfish Log, 12.5 minutes; Spawning Blocks, DAS, EFP, Herring, RSA, and Tilefish, 3 minutes each.

Total Annual Burden Hours: 9,141.

Needs and Uses: This request is for revision and extension of a current information collection. This information collection, 0648-0212, is sponsored by the Data Processing & Quality Branch, which falls under the Analysis & Program Support Division located at the Greater Atlantic Regional Office. Under the provisions of the Magnuson-Stevens Fishery Conservation and Management Act (16 U.S.C. 1801 et seq.), the National Oceanic and Atmospheric Administration's (NOAA) National Marine Fisheries Service (NMFS) is responsible for management of the nation's marine fisheries. Fishing vessels permitted to participate in Federally permitted fisheries in the Northeast are required to submit logbooks containing catch and effort information about their fishing trips. The information submitted is needed for the management of the fisheries. The only change to this collection is that all information collected is required to be submitted via electronic means.

Affected Public: Individuals or households; Business or other for-profit organizations.

Frequency: Per trip.

Respondent's Obligation: Mandatory.

Legal Authority: Magnuson-Stevens Fishery Conservation and Management Act (16 U.S.C. 1801 et seq.).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0212.

Sheleen Dumas,
Department PRA Clearance Officer, Office of the Chief Information Officer, Commerce Department.

[FR Doc. 2022-08836 Filed 4-25-22; 8:45 am]

BILLING CODE 3510-22-P